EXPORT-IMPORT BANK

[Public Notice: 2022-6033]

Agency Information Collection Activities: Comment Request; EIB 92-51 Application for Special Buyer Credit Limit (SBCL) Under Multi-Buyer Export Credit Insurance Policies

AGENCY: Export-Import Bank.

ACTION: Submission for OMB review and comments request.

SUMMARY: The Export-Import Bank of the United States (EXIM Bank), as a part of its continuing effort to reduce paperwork and respondent burden, invites the public and other Federal Agencies to comment on the proposed information collection, as required by the Paperwork Reduction Act of 1995. The Application for Special Buyer Credit Limit (SBCL) Under Multi-Buyer Export Credit Insurance Policies is used by policyholders, the majority of whom are U.S. small businesses, who export U.S. goods and services. This application provides EXIM Bank with the credit information on a foreign buyer credit limit request needed to make a determination of eligibility for EXIM Bank support in adherence to legislatively required reasonable reassurance of repayment and other statutory requirements. The application can be reviewed at: https://img.exim.gov/s3fs-public/pub/pending/eib-92-51.pdf. Application for Special Buyer Credit Limit (SBCL) Under Multi-Buyer Export Credit Insurance Policies.

DATES: Comments should be received on or before February 13, 2023 to be assured of consideration.

ADDRESSES: Comments may be submitted electronically on WWW.REGULATIONS.GOV or by mail to Ms. Risa Pickle, Export-Import Bank of the United States, 811 Vermont Ave. NW, Washington, DC 20571.

SUPPLEMENTARY INFORMATION:

Titles and Form Number: EIB 92-51 Application for Special Buyer Credit Limit (SBCL) Under Multi-Buyer Export Credit Insurance Policies.

OMB Number: 3048-0015.

Type of Review: Regular.

Need and Use: This application provides EXIM Bank with the credit information on a foreign buyer credit limit request needed to make a determination of eligibility for EXIM Bank support in adherence to legislatively required reasonable reassurance of repayment and other statutory requirements.

The changes to this form are intended to improve the sequence and layout of the foreign buyer credit questions and add description of the drop-down menus.

Affected Public: This form affects business entities involved in the export of U.S. goods and services. The estimated number of respondents and the annual hour burden has been lowered to only count the new applicants. The estimate of the overall burden to the public has been reduced after considering that EXIM automatically processes renewals of Special Buyer Credit Limit requests in the Exim Online (EOL) system, and, thus, the renewing policyholders don't have to manually complete an application.

The number of respondents: 2,000.

Estimated time per respondents: 30 minutes.

The frequency of response: As needed.

Annual hour burden: 1,000 total hours.

Government Expenses:

Reviewing time per hour: 1 hour.

Responses per year: 2,000.

Reviewing time per year: 2,000 hours.

Average Wages per hour: $42.50.

Average cost per year (time * wages): $ 85,000.

Benefits and overhead: 20%.

Total Government Cost: $ 102,000.

Andy Chang,
Director, IT Records Management, Agency Clearance Officer, Office of the Chief Information Officer.

[FR Doc. 2022-27165 Filed 12-14-22; 8:45 am]

BILLING CODE 6690-01-P